DEPARTMENT OF TRANSPORTATION

Federal Aviation Administration

14 CFR Part 97

[Docket No. 31086; Amdt. No. 3704]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 4, 2016. The compliance date for each SIAP, associated Takeoff Minimums, and ODP is specified in the amendatory provisions.

The incorporation by reference of certain publications listed in the regulations is approved by the Director of the Federal Register as of August 4, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 1, 2016.
John S. Duncan,
Director, Flight Standards Service.

Adoption of the Amendment

Accordingly, pursuant to the authority delegated to me, Title 14, Code of Federal regulations, part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
18-Aug-16 | NJ | Hammonton | Hammonton Muni | 5/2106 | 6/22/16 | VOR-B, Amdt 2A.
18-Aug-16 | NJ | Hammonton | Hammonton Muni | 5/2107 | 6/22/16 | RNAV (GPS) RWY 3, Amdt 1A.
18-Aug-16 | TN | Murfreesboro | Murfreesboro Muni | 5/2767 | 6/20/16 | NDB RWY 18, Amdt 1B.
18-Aug-16 | AL | Evergreen | Middleton Field | 5/9975 | 6/15/16 | RNAV (GPS) RWY 28, Amdt 1A.
18-Aug-16 | AL | Evergreen | Middleton Field | 5/9977 | 6/15/16 | RNAV (GPS) RWY 10, Amdt 1A.
18-Aug-16 | AL | Evergreen | Middleton Field | 5/9978 | 6/15/16 | RNAV (GPS) RWY 19, Amdt 1A.
18-Aug-16 | AL | Evergreen | Middleton Field | 5/9979 | 6/15/16 | VOR/DME RWY 10, Amdt 3.
18-Aug-16 | NC | Smithfield | Johnston Regional | 6/0302 | 6/22/16 | ILS Y OR LOC Y RWY 3, Amdt 1.
18-Aug-16 | KS | Topeka | Topeka Rgnl | 6/0612 | 6/20/16 | ILS OR LOC RWY 31, Amdt 9F.
18-Aug-16 | KS | Topeka | Topeka Rgnl | 6/0613 | 6/20/16 | NDB RWY 13, Amdt 7B.
18-Aug-16 | KS | Topeka | Topeka Rgnl | 6/0614 | 6/20/16 | RNAV (GPS) RWY 13, Orig-A.
18-Aug-16 | KS | Topeka | Topeka Rgnl | 6/0615 | 6/20/16 | RNAV (GPS) RWY 21, Amdt 1A.
18-Aug-16 | KS | Topeka | Topeka Rgnl | 6/0616 | 6/20/16 | RNAV (GPS) RWY 3, Amdt 1A.
18-Aug-16 | KS | Topeka | Topeka Rgnl | 6/0617 | 6/20/16 | RNAV (GPS) RWY 31, Orig-A.
18-Aug-16 | KS | Topeka | Topeka Rgnl | 6/0622 | 6/20/16 | VOR/DME OR TACAN RWY 21, Amdt 7A.
18-Aug-16 | KS | Topeka | Topeka Rgnl | 6/0623 | 6/20/16 | VOR/DME OR TACAN RWY 3, Amdt 6B.
18-Aug-16 | KS | Topeka | Topeka Rgnl | 6/0624 | 6/20/16 | Takeoff Minimums and (Obstacle) DP, Orig.
18-Aug-16 | IN | Winamac | Arens Field | 6/1100 | 6/15/16 | VOR/DME-A, Amdt 6.
18-Aug-16 | OH | Harrison | Cincinnati West | 6/1575 | 6/21/16 | RNAV (GPS) RWY 19, Orig.
18-Aug-16 | OH | Harrison | Cincinnati West | 6/1576 | 6/21/16 | VOR RWY 19, Amdt 4.
18-Aug-16 | IL | Peoria | General Downing—Peoria Intl | 6/1640 | 6/15/16 | ILS OR LOC RWY 13, Amdt 6E.
18-Aug-16 | WI | East Troy | East Troy Muni | 6/1764 | 6/15/16 | VOR/DME-A, Amdt 1.
18-Aug-16 | WI | East Troy | East Troy Muni | 6/1766 | 6/15/16 | RNAV (GPS) RWY 8, Orig-A.
18-Aug-16 | WI | East Troy | East Troy Muni | 6/1767 | 6/15/16 | RNAV (GPS) RWY 26, Orig-A.
18-Aug-16 | PA | St Marys | St Marys Muni | 6/1822 | 6/22/16 | RNAV (GPS) RWY 10, Amdt 1.
18-Aug-16 | PA | St Marys | St Marys Muni | 6/1829 | 6/22/16 | RNAV (GPS) RWY 28, Amdt 1B.
18-Aug-16 | PA | St Marys | St Marys Muni | 6/1831 | 6/22/16 | LOC/DME RWY 28, Amdt 4B.
18-Aug-16 | PA | St Marys | St Marys Muni | 6/1833 | 6/22/16 | VOR RWY 28, Amdt 7A.
18-Aug-16 | WI | Amery | Amery Muni | 6/2851 | 6/21/16 | Takeoff Minimums and (Obstacle) DP, Amdt 1A.
18-Aug-16 | MO | Jefferson City | Jefferson City Memorial | 6/3595 | 6/21/16 | ILS OR LOC RWY 30, Amdt 5C.
18-Aug-16 | MO | Jefferson City | Jefferson City Memorial | 6/3596 | 6/21/16 | RNAV (GPS) RWY 30, Orig.
18-Aug-16 | MO | Jefferson City | Jefferson City Memorial | 6/3597 | 6/21/16 | RNAV (GPS) RWY 12, Amdt 1.
18-Aug-16 | OH | Elyria | Elyria | 6/3625 | 6/21/16 | VOR OR GPS-A, Amdt 7B.
18-Aug-16 | NV | Lovelock | Derby Field | 6/3634 | 6/22/16 | Takeoff Minimums and (Obstacle) DP, Orig-B.
18-Aug-16 | MN | Minneapolis | Anoka County—Blaine Arpt (Janes Field) | 6/3652 | 6/21/16 | RNAV (GPS) RWY 27, Orig-A.
18-Aug-16 | WI | Solon Springs | Solon Springs Muni | 6/4068 | 6/15/16 | RNAV (GPS) RWY 19, Orig.
18-Aug-16 | NE | Omaha | Eppley Airfield | 6/4778 | 6/22/16 | ILS OR LOC/DME RWY 14L, Amdt 1C.
18-Aug-16 | NE | Omaha | Eppley Airfield | 6/4782 | 6/22/16 | ILS OR LOC RWY 32R, ILS RWY 32R (CAT II), ILS 32R (CAT III), Orig-D.
18-Aug-16 | NE | Omaha | Eppley Airfield | 6/4784 | 6/22/16 | RNAV (GPS) Y RWY 14L, Amdt 1B.
18-Aug-16 | OK | Poteau | Robert S Kerr | 6/4841 | 6/15/16 | RNAV (GPS) RWY 18, Orig-B.
18-Aug-16 | TX | Eagle Pass | Maverick County Memorial Intl | 6/4945 | 6/15/16 | RNAV (GPS) RWY 31, Orig.
18-Aug-16 | IN | Auburn | De Kalb County | 6/5467 | 6/21/16 | RNAV (GPS) RWY 9, Orig-C.
18-Aug-16 | MO | Trenton | Trenton Muni | 6/6403 | 6/15/16 | RNAV (GPS) RWY 18, Orig-A.
18-Aug-16 | MO | Cape Girardeau | Cape Girardeau Rgnl | 6/6659 | 6/15/16 | LOC/DME BC RWY 28, Amdt 8A.
18-Aug-16 | NY | Montgomery | Orange County | 6/6840 | 6/20/16 | RNAV (GPS) RWY 21, Amdt 1.
18-Aug-16 | NY | Montgomery | Orange County | 6/6841 | 6/20/16 | RNAV (GPS) RWY 26, Amdt 1A.
18-Aug-16 | NY | Montgomery | Orange County | 6/6842 | 6/20/16 | RNAV (GPS) RWY 3, Amdt 1.
18-Aug-16 | NY | Montgomery | Orange County | 6/6843 | 6/20/16 | RNAV (GPS) RWY 8, Amdt 1.
18-Aug-16 | NY | Montgomery | Orange County | 6/6862 | 6/20/16 | ILS OR LOC RWY 3, Amdt 3C.
18-Aug-16 | ME | Brunswick | Brunswick Executive | 6/6996 | 6/15/16 | RNAV (GPS) RWY 1R, Amdt 1.
18-Aug-16 | NE | Hartington | Hartington Muni/Bud Becker Fld | 6/7000 | 6/15/16 | VOR/DME RWY 31, Orig-B.
18-Aug-16 | VA | Front Royal | Front Royal—Warren County | 6/7066 | 6/20/16 | RNAV (GPS)-A, Orig-A.
18-Aug-16 | VA | Front Royal | Front Royal—Warren County | 6/7067 | 6/22/16 | VOR (GPS)-B, Orig-A.
18-Aug-16 | TN | Nashville | Nashville Intl | 6/7096 | 6/15/16 | ILS OR LOC/DME RWY 2R, ILS RWY 2R (SA CAT I), ILS RWY 2R (CAT II), ILD RWY 2R (CAT III), Amdt 8A.
18-Aug-16 | TN | Nashville | Nashville Intl | 6/7097 | 6/15/16 | VOR/DME RWY 13, Amdt 13C.
18-Aug-16 | GA | Lawrenceville | Gwinnett County—Briscoe Field | 6/7926 | 6/20/16 | NDB RWY 25, Amdt 1A.
18-Aug-16 | GA | Lawrenceville | Gwinnett County—Briscoe Field | 6/7927 | 6/20/16 | RNAV (GPS) RWY 25, Orig-B.
18-Aug-16 | GA | Lawrenceville | Gwinnett County—Briscoe Field | 6/7928 | 6/20/16 | RNAV (GPS) RWY 7, Orig-A.
18-Aug-16 | GA | Lawrenceville | Gwinnett County—Briscoe Field | 6/7930 | 6/20/16 | RNAV (GPS)-A, Orig-A.
18-Aug-16 | TX | Port Isabel | Port Isabel—Cameron County | 6/8476 | 6/21/16 | Takeoff Minimums and (Obstacle) DP, Amdt 2.
18-Aug-16 | WI | Rhinelander | Rhinelander—Oneida County | 6/8728 | 6/15/16 | ILS OR LOC RWY 9, Amdt 8A.
18-Aug-16 | WI | Rhinelander | Rhinelander—Oneida County | 6/8730 | 6/15/16 | RNAV (GPS) RWY 15, Amdt 1A.
18-Aug-16 | WI | Rhinelander | Rhinelander—Oneida County | 6/8735 | 6/15/16 | RNAV (GPS) RWY 27, Amdt 1A.
18-Aug-16 | WI | Rhinelander | Rhinelander—Oneida County | 6/8736 | 6/15/16 | VOR/DME RWY 27, Orig-F.
18-Aug-16 | WI | Rhinelander | Rhinelander—Oneida County | 6/8789 | 6/15/16 | RNAV (GPS) RWY 33, Amdt 1.
18-Aug-16 | IL | Moline | Quad City Intl | 6/8933 | 6/15/16 | RNAV (GPS) RWY 13, Amdt 1A.
18-Aug-16 | WI | Rhinelander | Rhinelander—Oneida County | 6/9593 | 6/15/16 | RNAV (GPS) RWY 9, Amdt 1A.
18-Aug-16 | MO | Mountain Grove | Mountain Grove Memorial | 6/9743 | 6/15/16 | RNAV (GPS) RWY 26, Orig-A.
18-Aug-16 | MO | Mountain Grove | Mountain Grove Memorial | 6/9744 | 6/15/16 | RNAV (GPS) RWY 8, Orig.

[FR Doc. 2016-18423 Filed 8-3-16; 8:45 am]

BILLING CODE 4910-13-P